ENVIRONMENTAL PROTECTION AGENCY

[ER-FRL-6665-4]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at 202-564-7167. An explanation of the ratings assigned to draft environmental impact statements (EISs) was published in the Federal Register dated April 1, 2005 (70 FR 16815).

Draft EISs

EIS No. 20040554, ERP No. D-FHW-J40169-CO, Programmatic—I-70 Mountain Corridor Tier 1 Project, from Glenwood Springs and C-470 Proposes to Increase Capacity, Improve Accessibility and Mobility, and Decrease Congestion, Colorado, Garfield, Eagle, Summit, Clear Creek and Jefferson Counties, CO.

Summary: EPA expressed environmental concerns about the proposed project regarding road deicers, the long-term fate and transport of sediment, water and air quality impacts, the indirect and cumulative impacts of growth, and environmental justice issues; and believes that a decision on whether the project is intended to accommodate short or long-term transportation needs should be made before a preferred alternative is identified. Rating EC2.

EIS No. 20050127, ERP No. D-AFS-F65055-MI, Hiawatha National Forest, Proposed Land and Resource Management Plan, Forest Plan Revision, Implementation, Alger, Cheboygan, Chippewa, Delta, Luce and Mackinac Counties, MI.

Summary: EPA has no objections to the proposed action. Rating LO.

EIS No. 20050136, ERP No. D-AFS-J67932-CO, Dry Fork Federal Coal Lease-by-Application (COC-67232), Leasing Additional Federal Coal Lands for Underground Coal Resource, Special-Use-Permits and U.S. Army COE section 404 Permit, Grand Mesa, Uncompahgre and Gunnison National Forests, Gunnison County, CO.

Summary: EPA expressed concerns regarding reducing impacts from roads to habitat, soil erosion and maintaining a buffer between the mining area and the West Elk wilderness area. EPA also expressed concerns about potential wetland impacts caused by mine subsidence. Rating EC2.

EIS No. 20050174, ERP No. D-FHW-J40170-CO, I-25, Valley Highway Project, Transportation Improvement from Logan to U.S. 6, Denver County, CO.

Summary: EPA has environmental concerns about the proposed project related to the lack of improvements to pedestrian access to commercial areas, the compatibility of ramp and arterial improvements with multimodal transportation development, and bicycle and pedestrian safety at intersections. EPA also recommends improvements to the air quality analysis. Rating EC2.

EIS No. 20050175, ERP No. D-FHW-K40258-CA, Campus Parkway Project, Proposes to Construct a New Expressway from Mission Avenue Interchange and Yosemite Avenue/Lake Road, U.S. Army COE Section 404 Permit, City of Merced, Merced County, CA.

Summary: EPA has environmental concerns about the proposed project regarding logical termini, alternatives, connected actions, air quality, cumulative impacts to waters of the U.S., and growth-inducing impacts. EPA recommends that FHWA clearly explain the traffic benefits of the project. Rating EC2.

EIS No. 20050181, ERP No. D-FHW-D40184-MO, MO-34, Corridor Improvements, from intersection of US Routes 60/21 in Carter County to the intersection of Routes 34/72 in Cape Girardeau County, Funding, U.S. Army COE Section 404 Permit, Carter, Bollinger, Reynolds, Wayne, and Cape Girardeau Counties, MO.

Summary: EPA has environmental concerns about the proposed project related to impacts to streams and 4(f) resources. EPA is also concerned about the uncertainty of potential issues that could arise between now and the projected construction start date, estimated to be at least 10 years. Rating EC2.

EIS No. 20050182, ERP No. D-FRC-J03018-00,Piceance Basin Expansion Project, Construction and Operation of a New Interstate Natural Gas Pipeline System, Wamsutter Compressor Station to Interconnections Greasewood Compressor Station, Rio Blanco County CO and Sweetwater County, WY.

Summary: EPA expressed environmental concerns about water and air quality impacts and the need to assess impacts from several connected and induced actions. Rating EC2.

EIS No. 20050189, ERP No. D-COE-D36075-PA,The Town of Bloomsburg, Columbia County, Pennsylvania Flood Damage Reduction Project, Implementation, Integrated Feasibility Report, Susquhanna River and Fishing Creek, Town of Bloomsburg, Columbia County, PA.

Summary: EPA expressed environmental concern about wetland and proposed wetland mitigation and roadway relocation impacts; and suggested minimization measures that would reduce project impacts. Rating EC2.

EIS No. 20050197, ERP No. D-TVA-E65073-TN,Watts Bar Reservoir Land Management Plan, Update 1988 Plan to Reflect Changing Community Needs, Loudon, Meigs, Rhea and Roane Counties, TN.

Summary: EPA expressed environmental concern related to impacts associated with the development/recreation alternative. Rating EC1.

EIS No. 20050163, ERP No. DS-STB-J53005-00,Powder River Basin Expansion Project, New Information on SEA's Independent Analyses Four Issues Remanded by the “8” Circuit Court of Appeals, Finance Docket No. 33407—Dakota, Minnesota, Eastern Railroad, SD, WY and MN.

Summary: EPA expressed environmental concern about apparent contradictions between statements in the Final Environmental Impact Statement and the Draft Supplemental EIS. EPA is also concerned that the assumptions made for air quality modeling for coal usage and the long-term projections of air quality impacts that were not in concert with the expected life of the rail project or the potential production life of Powder River Basin coal in eastern Wyoming. Rating EC1.

Final EISs

EIS No. 20050108, ERP No. F-FTA-J54001-UT, Weber County to Salt Lake City Commuter Rail Project, Proposes a Commuter Rail Transit Service with Nine Stations between Salt Lake City and Peasant View, Funding, Weber, Davis and Salt Lake Counties, UT.

Summary: EPA continues to have concerns about wetland mitigation and air quality impacts. EIS No. 20050153, ERP No. F-FHW-J40160-UT, Southern Corridor Construction, I-15 at Reference Post 2 in St. George to UT-9 near Hurricane, Funding, Right-of-Way Grant and U.S. Army COE Section 404 Permit Issuance, St. George, Washington and Hurricane, Washington County, UT.

Summary: EPA has no objections to the proposed project. EIS No. 20050214, ERP No. F-AFS-J65430-MT, McSutten Decision Area, Implementation of Harvest and Associated Activities, Prescribed Burning, and Road Management, Kootenai National Forest, Rexford Ranger District, Lincoln County, MT.

Summary: EPA supports the proposed project; however, expressed environmental concerns about potential impacts to water quality, adequate funding to implement road BMP upgrades and maintenance, and road decommissioning.

EIS No. 20050223, ERP No. F-FHW-J40168-UT, 11400 South Project, Proposed Improvement to the Transportation Network in the Southern Salt Lake Valley from 12300/12600 South to 10400/10600 South, and from Bangerter Highway to 700 East, Salt Lake City Salt Lake County, UT.

Summary: No formal comment letter was sent to the preparing agency.

Robert W. Hargrove,
Director, NEPA Compliance Division, Office of Federal Activities.

[FR Doc. 05-13972 Filed 7-14-05; 8:45 am]

BILLING CODE 6560-50-P